DEPARTMENT OF ENERGY

Federal Energy Regulatory Commission

[Project No. 2539-003]

Erie Boulevard Hydropower, L.P.; Notice Granting Late Interventions

August 8, 2006.

On December 23, 1991, an application was filed by the predecessor to Erie Boulevard Hydropower, L.P. for a new license for the School Street Project No. 2539. The project is located on the Mohawk River, in Albany and Saratoga Counties, New York.

On February 11, 1993, the Commission issued a notice of application for new license, and solicited comments, protests, and motions to intervene. The notice established April 12, 1993, as the deadline for filing comments, protests, and motions to intervene. On May 3, 1995, and January 16, 1996, the New York State Department of Environmental Conservation (NYSDEC) and National Marine Fisheries Service (NMFS) filed motions to intervene.

NYSDEC states that it is a department of the government of the state of New York, charged by law with the administrative management of the state's fish and wildlife resources. NMFS states that it is responsible for oversight and evaluation of activities that may affect marine, estuarine, and anadromous fishery resources, and that the Mohawk River supports a major spawning run of anadromous blueback herring.

The motions to intervene were filed early in this proceeding and well before the Commission issued its draft environment assessment for the project. Granting the late motions to intervene will not unduly delay or disrupt the proceeding, or prejudice other parties to it.¹ Therefore, pursuant to Rule 214,² the late motions to intervene in this proceeding filed by NYSDEC and NMFS are granted, subject to the Commission's rules and regulations.

¹ Both motions were referenced and these entities' comments considered in the draft environmental assessment. It appears inadvertent that the motions were not acted upon at that point.

² 18 CFR 385.214 (2006).

Magalie R. Salas,
Secretary.

[FR Doc. E6-13366 Filed 8-15-06; 8:45 am]

BILLING CODE 6717-01-P